COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee has received proposals to add to the Procurement List services to be furnished by nonprofit agencies employing persons who are blind or have other severe disabilities, and to delete commodities previously furnished by such agencies.

COMMENTS MUST BE RECEIVED ON OR BEFORE: September 11, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Grounds Maintenance, Department of Veterans Affairs, Puget Sound Health Care System, 1660 South Columbian Way, Seattle, Washington

NPA: AtWork! Issaquah, Washington

Janitorial/Custodial, Travis VA Outpatient Clinic, Travis Air Force Base, California

NPA: Easter Seal Society of Superior California, Sacramento, California

Janitorial/Custodial, Basewide, Naval Submarine Base New London, Groton, Connecticut

NPA: CW Resources, Inc., New Britain, Connecticut

Janitorial/Custodial, Buildings 559, 1105, 2045 and 2070, Hickham Air Force Base, Hawaii

NPA: Network Enterprises, Inc., Honolulu, Hawaii

Self Service Supply Center, Defense Depot San Joaquin, Self Service Store, Building 100, Room 28, Tracy, California

NPA: South Texas Lighthouse for the Blind, Corpus Christi, Texas

Switchboard Operation, Defense Supply Center—Richmond, Richmond, Virginia

NPA: Goodwill Services, Inc., Richmond, Virginia

Ventilation Duct Cleaning Services, Puget Sound Naval Shipyard, Building 435 Cafeteria, Bremerton, Washington

NPA: Skookum Educational Programs, Port Townsend, Washington

Wheelchair Maintenance, Veterans Affairs Medical Center, 800 Zorn Avenue, Louisville, Kentucky

NPA: New Vision Enterprises, Inc., Louisville, Kentucky

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46—48c) in connection with the commodities proposed for deletion from the Procurement List.

The following commodities have been proposed for deletion from the Procurement List:

Knife, Paring; Steak/Utility; Slicer

M.R. 870 (Paring)

M.R. 871 (Steak/Utility)

M.R. 874 (Slicer)

Louis R. Bartalot,
Deputy Director (Operations).

[FR Doc. 00-20428 Filed 8-10-00; 8:45 am]

BILLING CODE 6353-01-P